DEPARTMENT OF TRANSPORTATION

Federal Aviation Administration

14 CFR Part 71

[Docket No. FAA-2006-23714; Airspace Docket No. 06-AAL-07]

Revision of Class E Airspace; Barter Island, AK

AGENCY: Federal Aviation Administration (FAA), DOT.

ACTION: Final rule; correction.

SUMMARY: This action corrects an error in the airspace description contained in a Final Rule that was published in the Federal Register on Wednesday, August 23, 2006 (71 FR 49343). Airspace Docket No. 06-AAL-07.

DATES: Effective Date: 0901 UTC, November 23, 2006

FOR FURTHER INFORMATION CONTACT: Gary Rolf, AAL-538G, Federal Aviation Administration, 222 West 7th Avenue, Box 14, Anchorage, AK 99513-7587; telephone number (907) 271-5898; fax: (907) 271-2850; e-mail: gary.ctr.rolf@faa.gov. Internet address: http://www.alaska.faa.gov/at.

SUPPLEMENTARY INFORMATION:

History

Federal Register Document E6-13803, Airspace Docket No. 06-AAL-07, published on Wednesday, August 23, 2006 (71 FR 49343), revised Class E airspace at Barter Island, AK. An error was discovered in the airspace description that incorrectly identified the Barter Island Airport by including the name “Edward Burnell Sr. Memorial”. This action corrects that error.

Correction to Final Rule

Accordingly, pursuant to the authority delegated to me, the airspace description of the Class E airspace published in the Federal Register, Wednesday, August 23, 2006 (71 FR 49343), (FR Doc E6-13803, page 49344, column 3) is corrected as follows:

§ 71.1 [Corrected]

* * * * *

AAL AK E5 Barter Island, AK [Revised]

Barter Island Airport, AK

(Lat. 70°08′02″ N., long. 143°34′55″ W.)

That airspace extending upward from 700 feet above the surface within a 4.7-mile radius of the Barter Island Airport; and that airspace extending upward from 1,200 feet above the surface within a 83-mile radius of the Barter Island Airport, excluding that airspace east of 141° West Longitude.

* * * * *

Issued in Anchorage, AK, on August 23, 2006.
Anthony M. Wylie,
Director, Alaska Flight Service Information Office.

[FR Doc. E6-14830 Filed 9-6-06; 8:45 am]

BILLING CODE 4910-13-P